DEPARTMENT OF AGRICULTURE

Forest Service

36 CFR Part 242

DEPARTMENT OF THE INTERIOR

Fish and Wildlife Service

50 CFR Part 100

[FWS-R7-EA-2007-0025; 70101-1335-0064L6]

RIN 1018-AV72

Subsistence Management Regulations for Public Lands in Alaska—2009-2010 and 2010-2011 Subsistence Taking of Fish and Shellfish Regulations

Correction

In proposed rule document E8-7841 beginning on page 20887 in the issue of Thursday, April 17, 2008 make the following correction:

On page 20887, in the third column, under the DATES heading, in the first and second lines, “comments and proposals received” should read “comments received”.

[FR Doc. Z8-7841 Filed 5-20-08; 8:45 am]

BILLING CODE 1505-01-D